NUCLEAR REGULATORY COMMISSION

[Docket Nos. 50-255, 72-005, License No. DPR-20]

Consumers Energy Company (Palisades Plant); Order Approving Transfer of Operating Authority and Conforming Amendment

I

Consumers Energy Company (CEC or the licensee) is the holder of Facility Operating License No. DPR-20, which authorizes operation of the Palisades Plant (Palisades or the facility). The facility is located in Van Buren County, Michigan. The license authorizes CEC to possess, use, and operate Palisades.

II

By application dated November 21, 2000, the Commission was informed that CEC entered into an Operating Services Agreement with Nuclear Management Company, LLC (NMC). Under the proposed transaction, NMC will be designated as the licensee authorized to use and operate Palisades in accordance with the terms and conditions of the license. The transaction involves no change in plant ownership. The licensee requested approval of the proposed transfer of operating authority under the Palisades Facility Operating License to NMC. The application also requested a conforming amendment to reflect the transfer. The proposed amendment would add NMC to the license and reflect that NMC is exclusively authorized to use and operate Palisades. As a result of the transfer of the license with respect to operating authority thereunder and the conforming license amendment, NMC will also become and act as the general licensee for the Independent Spent Fuel Storage Installation (ISFSI) at Palisades pursuant to 10 CFR 72.210.

According to the application for approval filed by CEC, NMC would become the licensee authorized to use and operate Palisades following approval of the proposed license transfer. NMC will assume exclusive responsibility for the operation and maintenance of Palisades. Ownership of Palisades will not be affected by the proposed transfer of operating authority. CEC will retain its current ownership interest. NMC will not own any portion of Palisades. Likewise, CEC's entitlement to capacity and energy from Palisades will not be affected by the transfer of operating authority. No physical changes to the Palisades facility were proposed in the application.

Approval of the transfer of operating authority under the Facility Operating License and conforming license amendment was requested by CEC pursuant to 10 CFR 50.80 and 10 CFR 50.90. Notice of the application for approval and an opportunity for a hearing was published in the Federal Register on December 19, 2000 (65 FR 79431). No hearing requests or written comments were received.

Pursuant to 10 CFR 50.80, no license, or any right thereunder, shall be transferred, directly or indirectly, through transfer of control of the license, unless the Commission shall give its consent in writing. After reviewing the information in the application by CEC and other information before the Commission, and relying upon the representations and agreements contained in the application, the NRC staff has determined that NMC is qualified to hold the operating authority under the license, and that the transfer of the operating authority under the license to NMC is otherwise consistent with applicable provisions of law, regulations, and orders issued by the Commission, subject to the conditions set forth below. The NRC staff has further found that the application for the proposed license amendment complies with the standards and requirements of the Atomic Energy Act of 1954, as amended, and the Commission's rules and regulations set forth in 10 CFR Chapter I; the facility will operate in conformity with the application, the provisions of the Act, and the rules and regulations of the Commission; there is reasonable assurance that the activities authorized by the proposed license amendment can be conducted without endangering the health and safety of the public and that such activities will be conducted in compliance with the Commission's regulations; the issuance of the proposed license amendment will not be inimical to the common defense and security or the health and safety of the public; and the issuance of the proposed amendment will be in accordance with 10 CFR part 51 of the Commission's regulations and all applicable requirements have been satisfied. The foregoing findings are supported by a safety evaluation dated April 19, 2001.

III

Accordingly, pursuant to sections 161b, 161i, and 184 of the Atomic Energy Act of 1954, as amended, 42 U.S.C. 2201(b), 2201(i), and 2234, and 10 CFR 50.80, it is hereby ordered that the transfer of operating authority under the license, as described herein, to NMC is approved, subject to the following conditions:

(1) After receipt of all required regulatory approvals of the transfer of operating authority to NMC, CEC and NMC shall inform the Director of the Office of Nuclear Reactor Regulation in writing of such receipt within 5 business days, and of the date of the closing of the transfer no later than 7 business days prior to the date of closing. If the transfer is not completed by April 19, 2002, this Order shall become null and void, provided, however, upon written application and for good cause shown, such date may in writing be extended.

(2) NMC shall, prior to completion of the transfer of operating authority for Palisades, provide the Director of the Office of Nuclear Reactor Regulation satisfactory documentary evidence that NMC has obtained the appropriate amount of insurance required of licensees under 10 CFR part 140 of the Commission's regulations.

It is further ordered that, consistent with 10 CFR 2.1315(b), a license amendment that makes changes, as indicated in Enclosure 2 to the cover letter forwarding this Order, to conform the license to reflect the subject transfer of operating authority is approved. The amendment shall be issued and made effective at the time the proposed transfer is completed.

This Order is effective upon issuance.

For further details with respect to this action, see the application dated November 21, 2000, which is available for public inspection at the Commission's Public Document Room, located at One White Flint North, 11555 Rockville Pike (first floor), Rockville, Maryland, and accessible electronically through the ADAMS Public Electronic Reading Room link at the NRC Web site (http://www.nrc.gov).

Dated at Rockville, Maryland, this 19th day of April 2001.
For the Nuclear Regulatory Commission.
Samuel J. Collins,
Director, Office of Nuclear Reactor Regulation.

[FR Doc. 01-10413 Filed 4-25-01; 8:45 am]

BILLING CODE 7590-01-U